DEPARTMENT OF TRANSPORTATION

Federal Aviation Administration

14 CFR Part 73

[Docket No. FAA-2020-1053; Airspace Docket No. 20-ANM-32]

RIN 2120-AA66

Amendment of Restricted Area R-7001C and Establishment of Restricted Areas, R-7001D, R-7002A, R-7002B, and R-7002C; Guernsey, WY

AGENCY: Federal Aviation Administration (FAA), Department of Transportation (DOT).

ACTION: Final rule.

SUMMARY: This action amends restricted area R-7001C and establishes four restricted areas, R-7001D, R-7002A, R-7002B, and R-7002C. The Wyoming Army National Guard (WYARNG) requested the establishment of the new restricted areas to support its air-to-ground firing from helicopters and long range artillery training. This additional airspace allows for the segregation of hazardous activities from non-participating air traffic.

DATES: Effective date 0901 UTC, July 14, 2022.

FOR FURTHER INFORMATION CONTACT: Jesse Acevedo, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in the north central United States to maintain the efficient flow of air traffic.

History

The FAA published a notice of proposed rulemaking for Docket No. FAA-2020-1053 in the Federal Register (86 FR 12552; March 4, 2021) to amend restricted area R-7001C and establish four restricted areas, R-7001D, R-7002A, R-7002B, and R-7002C. The current restricted area was made public on February 14, 1962 (27 FR 1355). Since R-7001 was established, increased activities, and advancements in technologies require amendments to R-7001 and the establishment of new restricted areas to ensure non-participating aircraft are protected from hazardous activity in the National Airspace System (NAS). Interested parties were invited to participate in this rulemaking effort by submitting comments on the proposal. No comments were received.

Differences From the NPRM

In the NPRM published in the Federal Register (86 FR 12552; March 4, 2021), some of the coordinates defining restricted area R-7002B are inaccurately annotated. The first latitude specifies “42°22′24″ N” and should read as “42°22′25″ N”. The third set of coordinates show the longitude as “04°43′17″ W” and should read “104°43′17″ W”. This rule corrects these errors.

The Rule

This action amends 14 CFR part 73 by amending R-7001C and establishing R-7001D, R-7002A, R-7002B, and R-7002C at Guernsey, WY. The amended and new restricted areas will support the Army's more advanced technology weapons systems and provide further safety of the NAS for general aviation pilots. The restricted area descriptions are as follows:

R-7001C: R-7001C retain the current boundaries, but the floor of the restricted area will begin at 23,501 feet mean sea level (MSL). No other changes are made to the legal description.

R-7001D: R-7001D is established above R-7001C and has the same boundaries as the existing restricted area. The altitudes are from 30,001 to 45,000 feet MSL. Operations are limited to 20 days a year.

R-7002A: R-7002A is established north of, and shares its southern boundary with R-7001A, R-7001B, and R-7001C. The altitudes are from the surface to 23,500 feet MSL. Operations are limited to 20 days a year.

R-7002B: R-7002B is established on the southeast border, and shares its northern boundary with R-7001A, R-7001B, and R-7001C. The altitudes are from the surface to 23,500 feet MSL. Operations are limited to 20 days a year.

R-7002C: R-7002C is established west of, and shares its eastern border with R-7001A, R-7001B, and R-7001C. The altitudes are from the surface to 23,500 feet MSL. Operations are limited to 20 days a year

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this rulemaking action of amending restricted area R-7001C and establishing four restricted areas, R-7001D, R-7002A, R-7002B, and R-7002C, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this rulemaking action is not expected to result in any potentially significant environmental impacts. In accordance with FAA Order 1050.1F, paragraph 5-2 regarding Extraordinary Circumstances, the FAA has reviewed this action for factors and circumstances in which a normally categorically excluded action may have a significant environmental impact requiring further analysis. For this rulemaking action, the FAA has determined that no extraordinary circumstances exist that warrant preparation of an environmental assessment or environmental impact study. On February 2, 2022, and in accordance with FAA Order 1050.1F, paragraph 8-2—Adoption of Other Agencies' NEPA Documents, the FAA adopted WYARNG's Supplemental Environmental Assessment (SEA) and Finding of No Significant Impact/Record of Decision (FONSI) for the establishment of R-7001D, at Camp Guernsey, Guernsey, Wyoming. WYARNG finalized its SEA in November 2021, and signed the FONSI on December 28, 2021.

Lists of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.70 Wyoming [Amended]

2. Section 73.70 is amended as follows:

* * * * *

R-7001C Guernsey, WY [Amended]

Boundaries: Beginning at lat. 42°27′30″ N, long. 104°52′32″ W; to lat. 42°27′30″ N, long. 104°42′32″ W; to lat. 42°22′30″ N, long. 104°42′32″ W; to lat. 42°20′00″ N, long. 104°52′32″ W; to the point of beginning.

Designated Altitudes: 23,501 feet MSL to 30,000 feet MSL.

Time of Designation: Intermittent, 24 hours in advance by NOTAM.

Controlling agency: FAA, Denver ARTCC.

Using agency: Adjutant General, State of Wyoming.

R-7001D Guernsey, WY [New]

Boundaries: Beginning at lat. 42°27′30″ N, long. 104°52′32″ W; to lat. 42°27′30″ N, long. 104°42′32″ W; to lat. 42°22′30″ N, long. 104°42′32″ W; to lat. 42°20′00″ N, long. 104°52′32″ W; to the point of beginning.

Designated Altitudes: 30,001 feet MSL to 45,000 feet MSL.

Time of Designation: By NOTAM, at least 24 hours in advance.

Controlling Agency: FAA, Denver ARTCC.

Using Agency: Adjutant General, State of Wyoming.

R-7002A Guernsey, WY [New]

Boundaries: Beginning at lat. 42°27′55″ N, long. 104°52′33″ W; to lat. 42°27′55″ N, long. 104°51′46″ W; to lat. 42°28′21″ N, long. 104°51′45″ W; to lat. 42°28′21″ N, long. 104°48′46″ W; to lat. 42°27′56″ N, long. 104°48′46″ W; to lat. 42°27′55″ N, long. 104°47′28″ W; to lat. 42°27′30″ N, long. 104°46′43″ W; to lat. 42°27′30″ N, long. 104°52′32″ W; to the point of beginning.

Designated Altitudes: Surface to 23,500 feet MSL.

Time of Designation: By NOTAM, at least 24 hours in advance.

Controlling Agency: FAA, Denver ARTCC.

Using Agency: Adjutant General, State of Wyoming.

R-7002B Guernsey, WY [New]

Boundaries: Beginning at lat. 42°22′25″ N, long. 104°42′54″ W; to lat. 42°21′41″ N, long. 104°42′52″ W; to lat. 42°21′11″ N, long. 104°43′17″ W; to lat. 42°21′12″ N, long. 104°47′16″ W; to lat. 42°21′19″ N, long. 104°47′16″ W; to the point of beginning.

Designated Altitudes: Surface to 23,500 feet MSL.

Time of Designation: By NOTAM, at least 24 hours in advance.

Controlling Agency: FAA, Denver ARTCC.

Using Agency: Adjutant General, State of Wyoming.

R-7002C Guernsey, WY [New]

Boundaries: Beginning at lat. 42°27′03″ N, long. 104°53′54″ W; to lat. 42°27′03″ N, long. 104°52′32″ W; to lat. 42°20′00″ N, long. 104°52′32″ W; to lat. 42°20′18″ N, long. 104°51′19″ W; to lat. 42°19′42″ N, long. 104°51′17″ W; to lat. 42°19′43″ N, long. 104°53′03″ W; to lat. 42°20′49″ N, long. 104°54′38″ W; to lat. 42°22′43″ N, long. 104°54′38″ W; to lat. 42°22′48″ N, long. 104°53′22″ W; to lat. 42°23′39″ N, long. 104°53′23″ W; to lat. 42°23′40″ N, long. 104°53′58″ W; to the point of beginning; excluding that airspace 500 feet AGL and below ¼ mile either side of the BNSF railroad.

Designated Altitudes: Surface to 23,500 feet MSL.

Time of Designation: By NOTAM, at least 24 hours in advance.

Controlling Agency: FAA, Denver ARTCC.

Using Agency: Adjutant General, State of Wyoming.

* * * * *

Issued in Washington, DC, May 2, 2022.
Scott M. Rosenbloom,
Manager, Airspace Rules and Regulations.

[FR Doc. 2022-09692 Filed 5-5-22; 8:45 am]

BILLING CODE 4910-13-P